DEPARTMENT OF VETERANS AFFAIRS

[OMB Control No. 2900-0799]

Proposed Information Collection (Casket/Urn Reimbursement) Activity: Withdrawal

AGENCY: National Cemetery Administration, Department of Veterans Affairs.

ACTION: Notice; withdrawal.

SUMMARY: On Wednesday January 28, 2015, The National Cemetery Administration (NCA), Department of Veterans Affairs (VA), published a notice in the Federal Register announcing an opportunity for public comment on the proposed collection Casket/Urn Reimbursement. This notice (FR Vol. 80, Number 18, January 28, 2015) was published in error; therefore this document corrects that error by withdrawing this FR notice, document number 2015-01581.

DATES: Withdraw FR notice published on Wednesday, January 28, 2015.

FOR FURTHER INFORMATION CONTACT: Crystal Rennie, Enterprise Records Service (005R1B), Department of Veterans Affairs, 810 Vermont Avenue NW., Washington, DC 20420, at (202) 632-7492.

FR Doc. 2015, published on January 28, 2015 (FR Vol 80, Number 18), is withdrawn by this notice.

Dated: February 3, 2015.
Crystal Rennie,
Department Clearance Officer, Department of Veterans Affairs.

[FR Doc. 2015-02387 Filed 2-5-15; 8:45 am]

BILLING CODE 8320-01-P